DEPARTMENT OF COMMERCE

International Trade Administration

[A-475-818, A-489-805]

Certain Pasta From Italy and Turkey: Extension of Time Limit for Preliminary Results of Antidumping Duty Administrative Reviews

AGENCY: Import Administration, International Trade Administration, Department of Commerce.

EFFECTIVE DATE: June 28, 2000.

FOR FURTHER INFORMATION CONTACT: Russell Morris at (202) 482-1775, Import Administration, International Trade Administration, U.S. Department of Commerce, 14th Street and Constitution Ave, NW., Washington, DC 20230.

Time Limits

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On August 30, 1999, the Department published a notice of initiation of administrative reviews of the antidumping duty orders on certain pasta from Italy and Turkey, covering the period July 1, 1998, through June 30, 1999 (64 FR 47167). On February 4, 2000, the Department extended the time limit for completion of the preliminary results of these administrative reviews by 90 days (65 FR 5591). The preliminary results are currently due no later than June 30, 2000.

Extension of Time Limit for Preliminary Results of Review

We determine that it is not practicable to complete the preliminary results of these reviews within the extended 90 day time limit. Therefore the Department is extending the time limit for completion of these preliminary results for the full 120 days, until no later than July 31, 2000. See Decision Memorandum from Melissa Skinner to Holly Kuga, dated June 14, 2000, which is on file in the Central Records Unit, Room B-099 of the main Commerce building. We intend to issue the final results no later than 120 days after the publication of the preliminary results notice.

This extension is in accordance with section 751(a)(3)(A) of the Act.

Dated: June 16, 2000.
Holly A. Kuga,
Acting Deputy Assistant Secretary, Import Administration, Group II.

[FR Doc. 00-16379 Filed 6-27-00; 8:45 am]

BILLING CODE 3510-DS-P